DEPARTMENT OF COMMERCE

Submission for OMB Review; Comment Request

The Department of Commerce has submitted to the Office of Management and Budget (OMB) for clearance the following proposal for collection of information under the provisions of the Paperwork Reduction Act (44 U.S.C. Chapter 35).

Agency: National Institute of Standards and Technology.

Title: National Weights and Measures Benchmarking and Needs Assessment Survey.

Form Number(s): None.

OMB Approval Number: None.

Type of Request: Regular submission.

Burden Hours: 396.

Number of Respondents: 79.

Average Hours Per Response: 6 hours.

Needs and Uses: The purpose of the National Weights and Measures Benchmarking and Needs Assessment Survey is to provide a comprehensive information base that can be used in strategic planning. The information will evaluate the effectiveness of the national weights and measures infrastructure, provide a basis for comparing weights and measures programs to one another, identify how the resources for the U.S. weights and measures system has changed over 10 years, identify the number of businesses, measuring devices, the volume of business done in various business sectors subject to weights and measures inspections, and to identify the most critical needs under the current environment and operation conditions of the programs.

Affected Public: State, local or tribal government, and business or other for-profit organizations.

Frequency: One-time.

Respondent's Obligation: Voluntary.

OMB Desk Officer: David Rostker, (202) 395-3897.

Copies of the above information collection proposal can be obtained by calling or writing Diana Hynek, Departmental Paperwork Clearance Office, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Room 10202, New Executive Office Building, Washington, DC 20503.

Dated: October 11, 2002.
Gwellnar Banks,
Management Analyst, Office of the Chief Information Officer.

[FR Doc. 02-26459 Filed 10-17-02; 8:45 am]

BILLING CODE 3510-13-P